FEDERAL COMMUNICATIONS COMMISSION

Notice of Public Information Collection(s) Being Submitted for Review to the Office of Management and Budget

July 8, 2008.

SUMMARY: The Federal Communications Commission, as part of its continuing effort to reduce paperwork burden invites the general public and other Federal agencies to take this opportunity to comment on the following information collection(s), as required by the Paperwork Reduction Act (PRA) of 1995, 44 U.S.C. 3501—3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 15, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-1022.

Title: Sections 101.1403, 101.103(f), 101.1413, 101.1440 and 101.1417, MVDDS and DBS Reporting and Third Party Disclosure Requirements.

Form No.: N/A.

Type of Review: Revision of a currently approved collection.

Respondents: Business or other for-profit.

Number of Respondents: 217 respondents; 217 responses.

Estimated Time per Response: .50 hours—40 hours.

Frequency of Response: On occasion, annual and other reporting requirements and third party disclosure requirement.

Obligation to Respond: Required to obtain or retain benefits.

Total Annual Burden: 10,347 hours.

Total Annual Cost: $5,300.

Privacy Act Impact Assessment: N/A.

Nature and Extent of Confidentiality: There is no need for confidentiality.

Needs and Uses: The Commission is revising this information collection (IC) to consolidate five information collections with five different OMB Control Numbers into one comprehensive collection (OMB Control Numbers 3060-1022 through 3060-1026). Upon OMB approval, the Commission will eliminate OMB Control Numbers 3060-1023 through 3060-1026 and retain 3060-1022 as the active number for the OMB inventory.

The Commission is not changing any of the reporting or third party disclosure requirements. We are simply modifying this IC to include the other four ICs as mentioned above. The following is a description of each rule section requirement subject to the Paperwork Reduction Act (PRA):

a. Section 101.1403 requires certain Multichannel Video Distribution and Data Service (MVDDS) licensees to comply with the statutory broadcast carriage requirements of 47 U.S.C. 325(b)(1). These MVDDS licensees must obtain the prior express authority of a broadcast station before retransmitting that station's signal.

b. Section 101.103(f) requires MVDDS licensees to provide notice of intent of construction of a proposed antenna to Non-Geostationary Satellite Orbit Fixed Satellite Service (NGSO FSS) licensees operating in the 12.2-12.7 GHz frequency band and to establish and maintain an Internet Web site of all existing transmitting sites and transmitting antenna that are scheduled for operation within one year including the “in service” dates.

c. Section 101.1413 requires MVDDS licensees to file a showing of substantial service at five years and ten years into the initial license term. The substantial service requirement is defined as a “service that is sound, favorable, and substantially above the level of mediocre service which might minimally warrant renewal”. The renewal application of an MVDDS licensee must include the following showings in order to claim a renewal expectancy: (1) A coverage map depicting the served and unserved areas; (2) a corresponding description of current service in terms of geographic coverage and population served or transmitter locations in the served areas; and (3) copies of any Commission Orders finding the licensee to have violated the Communications Act or any Commission rule or policy and a list of any pending proceeding that related to any matter described by the requirements for the renewal expectancy.

d. Section 101.1440 requires MVDDS licensees to collect information and disclose information to third parties. Section 101.1440 requires MVDDS licensees to conduct a survey of the area around its proposed transmitting antenna site to determine the location of all Direct Broadcast Satellite (DBS) customers of record that may potentially be affected by the introduction of its MVDDS service. At least 90 days prior to the planned date of MVDDS commencement of operations, the MVDDS licensee must then provide specific information to the DBS licensee(s). Alternatively, MVDDS licensees may obtain a signed, written agreement from DBS customers of record stating that they are aware of and agree to their DBS system receiving MVDDS signal levels in excess of the appropriate Equivalent Power Flux Density (EPFD) limits. The DBS licensee must thereafter provide the MVDDS licensee with a list of only those new DBS customer locations that have been installed in the 30-day period following the MVDDS notification that the DBS licensee believes may receive harmful interference or where the prescribed EPFD limits may be exceeded. If the MVDDS licensee determines that its signal level will exceed the EPFD limit at any DBS customer site, it shall take whatever steps are necessary, up to and including fining a new transmitter site.

e. Section 101.1417 requires licensees to file with the Commission two copies of a “licensee information report” by March 1st of each year for the preceding calendar year. This report must include the name and address of the licensee; station(s) call letters and primary geographic service area(s); and statistical data for the licensee's station.

The information is used by the Commission to monitor licensee compliance of FCC rules; ensure that prior to operation the MVDDS antenna meet the minimum spacing requirements; to determine whether the licensee is providing substantial service and for whether to apply for a renewal expectancy; to notify third parties of certain information; and to assist the Commission in analyzing trends and competition in the marketplace.

OMB Control Number: 3060-0905.

Title: Section 18.213, Information to the User (Regulations for RF Lighting Devices).

Form No.: N/A.

Type of Review: Revision of a currently approved collection.

Respondents: Business or other for-profit and not-for-profit institutions.

Number of Respondents: 3 respondents; 3 responses.

Estimated Time Per response: 1 hour.

Frequency of Response: Third party disclosure requirement.

Obligation to Respond: Required to obtain or retain benefits.

Total Annual Burden: 3 hours.

Total Annual Cost: $75.00 for producing and labeling the equipment = $225.

Privacy Act Impact Assessment: N/A.

Nature and Extent of Confidentiality: There is no need for confidentiality.

Needs and Uses: The Commission is revising this information collection after this 60 day comment period in order to obtain the full three year clearance from the Office of Management and Budget (OMB).

The Commission is removing section 18.307 from this information collection because it was incorrectly included in the last submission to the OMB. Upon review of the rule section, it was determined that section 18.307 only contained technical standard limits and therefore, not subject to the Paperwork Reduction Act (PRA) and OMB approval.

The Commission is also adjusting the annual cost estimate for this information collection by −$775 due to a mathematical error in the last submission to the OMB.

Section 18.213 (for which the Commission is seeking continued OMB approval) requires information on industrial, scientific and medical equipment shall be provided to the user in the instruction manual or on the packaging of an instruction manual is not provided for any type of ISM equipment. (a) The interference potential of the device or system; (b) maintenance of the system; (c) simple measures that can be taken by the user to correct interference; and (d) manufacturers of RF lighting devices must provide an advisory statement, either on the product packaging or with other user documentation, similar to the following: This product may cause interference to radio equipment and should not be installed near maritime safety communications equipment or other critical navigation or communication equipment operating between 0.45-30 MHz. Variations of this language are permitted provided all the points of the statement are addressed and may be presented in any legible font or text style.

The simple warning label with a short advisory statement will be used by the Commission to determine if an RF lighting device is in compliance with the applicable Commission rules and is capable of producing emissions in the 0.45-30 MHz band.

Federal Communications Commission.
Marlene H. Dortch,
Secretary.

[FR Doc. E8-16321 Filed 7-16-08; 8:45 am]

BILLING CODE 6712-01-P